DEPARTMENT OF THE TREASURY

United States Mint

Notification of American Eagle Gold Proof Coin Price Decrease

Summary: The recent drop in the price of gold requires that the United States Mint reduce the prices on its 2006 American Eagle Gold Proof Coins.

Pursuant to the authority that 31 U.S.C. 5112(i) and 5111(a)(3) grant the Secretary of the Treasury to mint and issue gold coins, and to prepare and distribute numismatic items, the United States Mint mints and issues American Eagle Gold Proof Coins in four denominations: One-ounce, one-half ounce, one-quarter ounce, one-tenth ounce, and a four-coin set that contains one coin of each denomination. In accordance with 31 U.S.C. 9701(b)(2)(B), the United States Mint is changing the price of these coins to reflect the decrease in value of the underlying precious metal content of the coins—the result of recent decreases in the market price of gold. Accordingly, effective July 12, 2006, the United States Mint will commence selling these gold proof coins according to the following price schedule: one-ounce gold proof coin (Sold Out), one-half ounce gold proof coin ($420.00), one-quarter ounce gold proof coin ($215.00), one-tenth ounce gold proof coin ($105.00), and four-coin gold proof set ($1,495.00).

For Further Information Contact: Gloria Eskridge, Associate Director for Sales and Marketing, United States Mint, 801 Ninth Street, NW., Washington, DC 20220; or call 202-354-7500.

Authority: 31 U.S.C. 5111, 5112 & 9701.

Dated: July 11, 2006.
David A. Lebryk,
Acting Director, United States Mint.

[FR Doc. E6-11096 Filed 7-13-06; 8:45 am]

BILLING CODE 4810-37-P